DEPARTMENT OF THE INTERIOR

Coachella Canal Lining Project, Imperial and Riverside Counties, California

AGENCY: Bureau of Reclamation, Interior

ACTION: Notice of Availability, Draft Environmental Impact Statement/Draft Environmental Impact Report—Coachella Canal Lining Project (INT-DES 00-40).

SUMMARY: Pursuant to the National Environmental Policy Act (NEPA) of 1969 (as amended) and the California Environmental Quality Act (CEQA), the Bureau of Reclamation (Reclamation) and the Coachella Valley Water District (CVWD) have prepared a joint Draft Environmental Impact Statement/Draft Environmental Impact Report (DEIS/DEIR) for the “Coachella Canal Lining Project.” The document is a revised and updated version of a DEIS/DEIR filed by Reclamation and the CVWD and issued for public comment on January 11, 1994.

DATES: A 60-day public review period shall begin with the publication date of this notice. Note that there will be no extension of the comment period for this DEIS/DEIR. In addition to mailing submissions, comments will also be received by Reclamation and CVWD at a public hearing scheduled for 6:30 p.m. on October 25, 2000, at the Coachella Valley Water District Office, Highway 111 and Avenue 52, Coachella, California. This facility is disability accessible. Please contact the persons identified below within two weeks prior to the hearing date to arrange for accommodations to meet other special needs, such as interpreters for the hearing-impaired.

ADDRESSES: To request copies of the DEIS/DEIR or to obtain further information about the Coachella Canal Lining Project, please contact Mr. Don Young, Reclamation, Yuma Area Office, P.O. Box D, 7301 Calle Agua Salada, Yuma, Arizona, 85366; telephone: (520) 343-8159; or Mr. Steve Robbins, Coachella Valley Water District, P.O. Box 1058, Highway 111 and Avenue 52, Coachella, California, 92236; telephone: (760) 398-2651. Written comments on the DEIS/DEIR should be sent to Mr. Don Young at the above address.

Note that Reclamation's standard practice is to make comments, including names and home addresses of respondents, available for public review. Individual respondents may request that his or her name or identity be withheld from public disclosure. Requests for non-disclosure must be made in writing when comments are submitted. Reclamation shall accommodate such requests to the extent allowable by law. All comments submitted by organizations and businesses and from individuals identifying themselves as representatives or officials of organizations or businesses shall be available for public disclosure in their entirety.

Copies of the DEIS/DEIR are now available for public review at the following locations:

• Bureau of Reclamation, Yuma Area Office, Central Files, Room 145, 7301 Calle Agua Salada, Yuma, Arizona; telephone: (520) 343-8147

• Coachella Valley Water District, Highway 111 and Avenue 52, Coachella, California, telephone: (760) 398-2651

• Bureau of Reclamation, Lower Colorado Regional Office, 400 Railroad Avenue, Boulder City, Nevada, telephone: (702) 293-8000

• Bureau of Reclamation, Reclamation Service Center Library, Building 67, Room 167, Denver Federal Center, 6th and Kipling, Denver, Colorado, telephone: (303) 236-6963

• Bureau of Reclamation, Program Analysis Office, Room 7456, 1849 C Street NW, Washington, DC, telephone: (202) 208-4662

• California Department of Water Resources, 6900 Devils Canyon Road, San Bernardino, California; telephone: (909) 886-5028

• Yuma County Library, 350 South Third Avenue, Yuma, Arizona, telephone: (520) 782-1871

• Coachella Branch Library, 1538 7th Street, Coachella, California; telephone: (760) 398-5148

• Brawley Public Library, 400 Main Street, Brawley, California; telephone: (760) 344-1891

• El Centro Public Library, 539 W. State Street, El Centro, California; telephone: (760) 337-4565

• Imperial Public Library, 200 W. 9th Street, Imperial, California; telephone: (760) 355-1332

• Indio Branch Library, 200 Civic Center Mall, Indio, California; telephone: (760) 347-2383

• Palm Springs Library, 300 S. Sunrise Way, Palm Springs, California; telephone: (760) 322-7323

• San Diego Central Library, 820 E Street, San Diego, California; telephone: (619) 236-5800

• Los Angeles Public Library, 630 W. Fifth Street, Los Angeles, California 90071; telephone: (213) 228-7000

SUPPLEMENTARY INFORMATION: This DEIS/DEIR is a revised and updated version of a DEIS/DEIR for the Coachella Canal Lining Project filed by Reclamation and the CVWD and issued for public comment on January 11, 1994. At that time, because of funding constraints, construction of the project was deferred, and a Final EIS/EIR was not completed. The proposed action evaluated in the revised DEIS/DEIR is the same as in the previous document—to install a concrete lining within the existing cross-section of unlined portions of the canal (33.2 miles) using conventional construction methods and diverting water around each section while it is being lined. Alternatives evaluated in the DEIS/DEIR, also the same as in the original DEIS/DEIR, include No Action, Underwater Lining, and Parallel Canal Construction.

The purpose of this federal action is to conserve 30,850 acre-feet annually of water presently being lost as seepage from the earthen reaches of the Coachella Canal. A specific quantity of conserved water would be assigned to the Department of the Interior to facilitate implementation of the San Luis Rey Indian Water Rights Settlement Act (Public Law 100-675, November 17, 1988). Remaining quantities of conserved water would be distributed to southern California to meet present water demand and to assist the State in attaining the goals of California's Colorado River Water Use Plan. The federal action includes approval of transfers and exchanges of conserved Coachella canal water among California's Colorado River water contractors.

Dated: September 13, 2000.
Robert W. Johnson,
Regional Director.

[FR Doc. 00-24425 Filed 9-21-00; 8:45 am]

BILLING CODE 4310-MN-P